FEDERAL MARITIME COMMISSION

Ocean Transportation Intermediary License Reissuance

Notice is hereby given that the following Ocean Transportation Intermediary license has been reissued by the Federal Maritime Commission pursuant to section 19 of the Shipping Act of 1984 (46 U.S.C. Chapter 409) and the regulations of the Commission pertaining to the licensing of Ocean Transportation Intermediaries, 46 CFR part 515.

License No. | Name/Address | Date Reissued
001890F | JIB International, Incorporated dba JIB International dba JIB Worldwide Freight Forwarding, 1822 W. Kettleman Lane, Suite 2, Lodi, CA 95242 | December 31, 2011.

Tanga FitzGibbon,
Deputy Director, Bureau of Certification and Licensing.

[FR Doc. 2012-3772 Filed 2-16-12; 8:45 am]

BILLING CODE 6730-01-P